DEPARTMENT OF THE INTERIOR

Bureau of Land Management

[ID-957-1420-BJ]

Idaho: Filing of Plats of Survey

AGENCY: Bureau of Land Management, Interior.

ACTION: Notice of Filing of Plats of Surveys.

SUMMARY: The Bureau of Land Management (BLM) has officially filed the plats of survey of the lands described below in the BLM Idaho State Office, Boise, Idaho, effective 9 a.m., on the dates specified.

FOR FURTHER INFORMATION CONTACT: Bureau of Land Management, 1387 South Vinnell Way, Boise, Idaho, 83709-1657.

SUPPLEMENTARY INFORMATION: These surveys were executed at the request of the Bureau of Land Management to meet their administrative needs. The lands surveyed are:

This supplemental plat was prepared to amend old lot 22 to lots 24 and 25, in section 15, T. 48 N., R. 3 E., Boise Meridian, Idaho, was accepted February 14, 2007.

This supplemental plat was prepared to add certain aliquot part acreages in section 6, T. 9 S., R. 41 E., Boise Meridian, Idaho, was accepted March 14, 2007.

The field notes representing the remonumentation of certain corners in T. 11 S., R. 16 E., Boise Meridian, Idaho, were approved March 21, 2007.

This survey was executed at the request of the Bureau of Indian Affairs to meet certain administrative and management purposes. The lands surveyed are:

The plat representing the dependent resurvey of a portion of the east boundary, a portion of the subdivisional lines, the subdivision of sections 24 and 25, and the metes-and-bounds surveys of certain lots and the rights-of-way boundaries of U.S. Highway No. 95 and the Union Pacific Railroad in section 24, T. 47 N., R. 5 W., Boise Meridian, Idaho, was accepted February 28, 2007.

Dated: April 4, 2007.
Stanley G. French,
Chief Cadastral Surveyor for Idaho.

[FR Doc. E7-6741 Filed 4-9-07; 8:45 am]

BILLING CODE 4310-GG-P